FEDERAL HOUSING FINANCE BOARD

[No. 2004-N-05]

Prices for Federal Home Loan Bank Services

AGENCY: Federal Housing Finance Board.

ACTION: Notice.

SUMMARY: The Federal Housing Finance Board (Finance Board) annually publishes the prices a Federal Home Loan Bank (Bank) may charge for processing and settlement of items such as negotiable order of withdrawal (NOW) and demand deposit (DDA) accounts offered to Bank members and other eligible institutions. Since no Banks currently offer item processing services directly to their members or other eligible institutions, the Finance Board is not publishing prices for Bank services for 2004.

EFFECTIVE DATE: March 19, 2004.

FOR FURTHER INFORMATION CONTACT: Gary Ternullo, Assistant Director, Office of Supervision, Risk Monitoring Division, by electronic mail at ternullog@fhfb.gov or by telephone at (202) 408-2904, or Edwin J. Avila, Financial Analyst, by electronic mail at avilae@fhfb.gov or by telephone at (202) 408-2871 or by regular mail at the Federal Housing Finance Board, 1777 F Street, NW., Washington, DC 20006.

SUPPLEMENTARY INFORMATION: Section 11(e) of the Federal Home Loan Bank Act (Bank Act) (12 U.S.C. 1431(e)) authorizes the Banks to: (1) Accept demand deposits from member institutions; (2) be drawees of payment instruments; (3) engage in collection and settlement of payment instruments drawn on or issued by members and other eligible institutions; and (4) have such incidental powers as are necessary to the exercise of such authority. Section 11(e)(2)(B) of the Bank Act (12 U.S.C. 1431(e)(2)(B)) requires the Finance Board to determine and regulate the charges the Banks must charge for these services. In accordance with section 11(e)(2)(B), the Finance Board annually publishes prices for Bank services in the Federal Register. See 12 CFR 975.6(c).

The Banks provide some correspondent services to their members or other eligible financial institutions, such as securities safekeeping, disbursements, coin and currency, settlement, and electronic funds transfer. However, the Banks do not provide services related to processing of items drawn against or deposited into third party accounts held by their members or other eligible financial institutions. Since no Banks currently offer item processing services directly to their members or other eligible financial institutions, the Finance Board is not publishing prices for Bank services for 2004. In addition, until a Bank resumes offering item processing services, the Finance Board will not publish a notice of prices in the Federal Register.

Dated: March 12, 2004.
By the Federal Housing Finance Board,
Stephen M. Cross,
Director, Office of Supervision.

[FR Doc. 04-6196 Filed 3-18-04; 8:45 am]

BILLING CODE 6725-01-P